POSTAL REGULATORY COMMISSION

39 CFR Part 3020

[Docket Nos. MC2010-14 and CP2010-13; Order No. 376]

New Postal Product

AGENCY: Postal Regulatory Commission.

ACTION: Final rule.

SUMMARY: The Commission is adding Canada Post-United States Postal Service Contractual Bilateral Agreement for Inbound Competitive Services to the Competitive Product List. This action is consistent with a postal reform law. Republication of the lists of market dominant and competitive products is also consistent with statutory requirements.

DATES: Effective February 8, 2010 and is applicable beginning December 30, 2009.

FOR FURTHER INFORMATION CONTACT: Stephen L. Sharfman, General Counsel, 202-789-6820 or stephen.sharfman@prc.gov.

SUPPLEMENTARY INFORMATION: Regulatory History, 74 FR 65169 (December 9, 2009)

.

Table of Contents

I. Introduction

II. Background

III. Comments

IV. Commission Analysis

V. Ordering Paragraphs

I. Introduction

The Postal Service seeks to add a new product, Canada Post-United States Postal Service Contractual Bilateral Agreement for Inbound Competitive Services, to the Competitive Product List. For the reasons discussed below, the Commission approves the Request.

II. Background

On November 25, 2009, the Postal Service filed a formal request pursuant to 39 U.S.C. 3642 and 39 CFR 3020.30 et seq. to add the Canada Post-United States Postal Service Contractual Bilateral Agreement for Inbound Competitive Services (Bilateral Agreement or Agreement) to the Competitive Product List.¹ The Postal Service asserts that the Bilateral Agreement is a competitive product “not of general applicability” within the meaning of 39 U.S.C. 3632(b)(3). This Request has been assigned Docket No. MC2010-14.

¹ Request of United States Postal Service to Add Canada Post-United States Postal Service Contractual Bilateral Agreement for Inbound Competitive Services to the Competitive Product List and Notice of Filing (Under Seal) the Enabling Governors' Decision and Agreement, November 25, 2009 (Request).

The Postal Service contemporaneously filed notice, pursuant to 39 U.S.C. 3632(b)(3) and 39 CFR 3015.5, that the Governors have established prices and classifications not of general applicability for inbound competitive services as reflected in the Bilateral Agreement. More specifically, the Bilateral Agreement, which has been assigned Docket No. CP2010-13, governs Inbound Parcel Post and Xpresspost-USA from Canada.

The Postal Service acknowledges an existing bilateral agreement with Canada Post for inbound competitive services, which is set to expire at the end of calendar year 2009. Id. at 3. The Postal Service asserts that the proposed MCS language in Docket No. MC2010-14 “resembles the language” for the existing bilateral agreement and that the differences “reflect changes to certain operational details” including a reclassification of Canada Post's “Xpresspost-USA” product from a market dominant product to a competitive product. Id. The Commission reviewed and approved that bilateral agreement in Docket Nos. CP2009-9 and MC2009-8. The Commission had previously approved the “Xpresspost-USA” product as a market dominant product in Docket No. MC2009-7.² Qualifying that approval, however, the Commission noted that “Xpresspost exhibits characteristics of a competitive product.” Id. at 7.

² Docket No. MC2009-7, Order Concerning Bilateral Agreement with Canada Post for Inbound Market Dominant Services, December 31, 2008 (Order No. 163).

In support of its Request, the Postal Service filed the following materials: (1) A redacted version of the Governors' Decision including proposed MCS language, a management analysis of the Bilateral Agreement, certification of compliance with 39 U.S.C. 3633(a), and certification of the Governors' vote;³ (2) a Statement of Supporting Justification as required by 39 CFR 3020.32;⁴ (3) a redacted version of the agreement;⁵ and (4) an application for non-public treatment of pricing and supporting documents filed under seal.⁶ Request at 2.

³ Attachment 1 to the Request.

⁴ Attachment 2 to the Request.

⁵ Attachment 3 to the Request.

⁶ Attachment 4 to the Request. The Postal Service erroneously noted in its Request that an Attachment 5 which contained the application for non-public treatment was filed. The application for non-public treatment is Attachment 4; there is no Attachment 5.

The Bilateral Agreement covers parcels arriving in the United States by surface transportation rather than air. Governors' Decision No. 09-16.⁷ The Bilateral Agreement also covers Xpresspost, a Canadian service for documents, packets, and light-weight packages. Id. The Bilateral Agreement allows Canada Post to tender surface parcels and Xpresspost to the Postal Service at negotiated prices rather than the default prices set by the Universal Postal Union. Id. The Bilateral Agreement is effective January 1, 2010 and continues until December 31, 2011. Id., Attachment 3, at 7.

⁷ See Attachment 1 to the Request.

In the Statement of Supporting Justification, Lea Emerson, Executive Director, International Postal Affairs, asserts that “[t]he addition of the [Bilateral] Agreement as a competitive product will enable the Commission to verify that the agreement covers its attributable costs and enables competitive products, as a whole, to make a positive contribution to coverage of institutional costs.” Id., Attachment 2, at 2. Joseph Moeller, Manager, Regulatory Reporting and Cost Analysis, Finance Department, certifies that the contract complies with 39 U.S.C. 3633(a). Id., Attachment 1, Attachment C. He observes that the Bilateral Agreement “should not impair the ability of competitive products on the whole to cover an appropriate share of institutional costs.” Id.

In Order No. 351, the Commission gave notice of the two dockets, appointed a public representative, and provided the public with an opportunity to comment.⁸

⁸ PRC Order No. 351, Notice and Order Concerning Bilateral Agreement with Canada Post for Inbound Competitive Services, December 1, 2009 (Order No. 351).

III. Comments

Comments were filed by the Public Representative.⁹ No other interested person submitted comments. The Public Representative states the Postal Service's Request comports with the applicable provisions of title 39. Id. at 1. He also states that the Postal Service's Request comports with the requirements of 39 U.S.C. 3632 and 39 CFR 3015. Id. at 1-2.

⁹ Public Representative Comments in Response to United States Postal Service Request to Add Canada Post-United States Postal Service Contractual Bilateral Agreement for Competitive Services to the Competitive Products List, and Notice of Filing Agreement and Enabling Governors' Decision (Under Seal), December 15, 2009 (Public Representative Comments). The Public Representative filed an accompanying Motion of the Public Representative for Late Acceptance of Comments in Response to United States Postal Service Request to Add Canada Post-United States Postal Service Contractual Bilateral Agreement for Competitive Services to the Competitive Product List, December 15, 2009. The motion is granted.

The Public Representative states that the Bilateral Agreement is in compliance with the requirements of 39 U.S.C. 3633(a). He asserts that the Postal Service has provided adequate justification for maintaining confidentiality in this case. Id. at 2-3. Additionally, the Public Representative states that the Bilateral Agreement satisfies the requirements of 39 U.S.C. 3633 in that it will not allow market dominant products to subsidize competitive products, ensures each competitive product covers its attributable costs, and enables competitive products as a whole to cover their costs and contribute a minimum of 5.5 percent to the Postal Service's total institutional costs. Id. at 2. He also indicates that the Postal Service has complied with 39 U.S.C. 3642 and 39 CFR 3020. Id. The Public Representative relates that he has reviewed the supporting documentation filed under seal, and the Bilateral Agreement offers provisions favorable both to the Postal Service and the general public. Id. at 3.

IV. Commission Analysis

The Commission has reviewed the Request, the Agreement, the financial analysis filed under seal, and the comments filed by all parties.

Statutory requirements. The Commission's statutory responsibilities in this instance entail assigning the Bilateral Agreement to either the Market Dominant Product List or to the Competitive Product List. 39 U.S.C. 3642. As part of this responsibility, the Commission also reviews the proposal for compliance with the Postal Accountability and Enhancement Act (PAEA) requirements. This includes, for proposed competitive products, a review of the provisions applicable to rates for competitive products. 39 U.S.C. 3633.

Product list assignment. In determining whether to assign the Bilateral Agreement to the Market Dominant Product List or the Competitive Product List, the Commission must consider whether “the Postal Service exercises sufficient market power that it can effectively set the price of such product substantially above costs, raise prices significantly, decrease quality, or decrease output, without risk of losing a significant level of business to other firms offering similar products.” 39 U.S.C. 3642(b)(1). If so, the product will be categorized as market dominant. The competitive category of products shall consist of all other products.

The Commission is further required to consider the availability and nature of enterprises in the private sector engaged in the delivery of the product, the views of those who use the product, and the likely impact on small business concerns. 39 U.S.C. 3642(b)(3).

In Docket No. RM2007-1, Order No. 43, the Commission determined that Inbound Surface Parcel Post shipments tendered at negotiated rates are appropriately classified as competitive.¹⁰ The Bilateral Agreement falls within this category.

¹⁰ Docket No. RM2007-1, Order Establishing Ratemaking Regulations for Market Dominant and Competitive Products, October 29, 2007 (Order No. 43).

The Postal Service asserts that its bargaining position is constrained by the existence of other shippers who can provide similar services, thus precluding it from taking unilateral action to increase prices or decrease service without the risk of losing volume to private companies. Request, Attachment 2, at 2-3. It also contends that the Agreement relates to the exchange between the Postal Service and Canada Post of Inbound Surface Parcel Post at negotiated prices which it has determined to be a competitive product because of its exclusion from the letter monopoly and the level of competition in the market for these services. Id. The Bilateral Agreement also includes Xpresspost, which the Postal Service asserts should be a competitive product for essentially the same reasons. Id. at 3. The Postal Service states that for both products, the Agreement provides adequate incentive for Canada Post and its shipping customers to tender volume to it rather than a competitor. It contends that it may not increase prices without the risk of losing inbound Canada-origin volume to a private competitor in the international shipping industry. Id.

The Postal Service asserts that the underlying parcel services are excluded from the Private Express Statutes' prohibition on private carriage of letters over post routes. Id., para. (e). It also contends that Xpresspost is excluded from the Private Express Statutes' prohibition. Id. The Postal Service states that the rates payable under the Agreement are more than six times higher than the current price of a one-ounce, First Class letter, and it presumes that a competitor could also offer prices exceeding this comparison rate. Id. The Postal Service also mentions that the determination that Xpresspost is competitive is consistent with its study and deliberations on the appropriate classification of the service as a result of the Commission's comments in Order No. 163. Id. at 2.

Finally, the Postal Service states that the market for international parcel delivery services is highly competitive, and the Bilateral Agreement provides a benefit to Canada Post's and the Postal Service's small business customers by providing an additional option for shipping articles between the United States and Canada. It concludes that there should be little, if any, negative impact on small business. Id. at 4-5.

In the instant Agreement, Xpresspost is classified as a competitive product for the first time. This reflects a change from the 2009 bilateral agreement with Canada Post. For purposes of the 2009 agreement, Xpresspost was subsumed within the market dominant product inbound Air Letter Post i.e., Air Letters and Cards (Air LC)).¹¹ In reviewing that agreement, the Commission determined that Xpresspost, a Canada Post service for documents and merchandise, “exhibits characteristics of a competitive product...[that] appears to parallel domestic Priority Mail.”¹² See Order No. 163 at 7. The Commission concluded that Xpresspost should be classified as a competitive product. Id.

¹¹ See Request of United States Postal Service to Add Canada Post-United States Postal Service Contractual Bilateral Agreement for Inbound Market-Dominant Services to the Market-Dominant Product List, Notice of Type 2 rate Adjustment, and Notice of Filing Agreement (Under Seal), November 13, 2008.

¹² See Docket No. MC2009-7 R2009-1, PRC Order No. 163, Order Concerning Bilateral Agreement with Canada Post for Inbound Market Dominant Services, December 31, 2008, at 7.

The Commission concurs with the Postal Service's decision to classify Xpresspost as a competitive product. Request, Attachment 2, at 6.

No commenter opposes the proposed classification of the Bilateral Agreement as competitive. Having considered the statutory requirements and the support offered by the Postal Service, the Commission finds that the Bilateral Agreement is appropriately classified as a competitive product and should be added to the Competitive Product List.

The Postal Service's filing seeks to establish a new product for Inbound competitive services. The Postal Service notes that the Commission observed in the FY 2007 and FY 2008 Annual Compliance Determination that revenues for inbound Surface Parcel Post at non-UPU rates did not cover its attributable cost during those fiscal years. Id., Attachment 2, at 5. It asserts that the negotiated rates in the instant Bilateral Agreement are an improvement over the 2009 rates and include an adjustment in the second year of the Bilateral Agreement to maintain cost coverage. Id.

Data issues. The Postal Service's filing is responsive to the Commission's concerns representing an improvement over the existing rates. The Postal Service uses FY 2008 costs rather than FY 2009 costs to forecast unit costs for Inbound Surface Parcel Post and Xpresspost during the contract period, CY 2010 and CY 2011. When forecasting unit costs, the use of more recent data is preferable. In response to Chairman's Information Request No. 1,¹³ the Postal Service states that it was unable to provide FY 2009 processing, delivery, and “other” unit costs, or FY 2009 domestic air and surface transportation costs per kilogram, notwithstanding that its Request was filed in FY 2010.¹⁴ The use of FY 2008 rather than the more recent FY 2009 costs necessitates relying on Global Insight indices to inflate FY 2008 costs for 3 years i.e., CY 2009, CY 2010, and CY 2011) instead of 2 years i.e., CY 2010 and CY 2011), and may produce less accurate forecasts than desirable. In subsequent filings, the Commission requests the Postal Service to submit the most recent supporting data available even if it is unaudited, in addition to the most recent ACD data.

¹³ Chairman's Information Request No. 1, December 10, 2009 (CHIR No. 1).

¹⁴ Notice of the United States Postal Service of Filing Responses to Chairman's Information Request No. 1 and Revised Financial Documentation, December 16, 2009, Questions 7 and 8. In addition, the Postal Service filed Notice of the United States Postal Service of Filing Response to Chairman's Information Request No. 1, Question 8, on December 11, 2009. An accompanying Motion for Late Acceptance of Response to Chairman's Information Request No. 1, Question 8 was filed December 11, 2009. The motion is granted.

The Postal Service's financial model also reveals that for CY 2010, Xpresspost merchandise will incur the cost of scans for Signature Confirmation. For CY 2011, however, the Postal Service does not include the cost of Signature Confirmation scans in its model. Rather, it uses the cost of Delivery Confirmation scans. The effect on costs of using Delivery rather than Signature Confirmation scans in CY 2011 is dramatic. The cost associated with Xpresspost merchandise scans decrease more than 84 percent between CY 2010 and CY 2011, resulting in a slight reduction in CY 2011 total costs for Inbound Surface Parcel Post and Xpresspost, as compared to CY 2010.

The Postal Service explains that the use of Delivery Confirmation scan costs reflects a planned change in its process of capturing signatures.

Postal Service revenues can be adversely affected if certain “targets” for delivery service and scanning are not met. During each year of the Bilateral Agreement, the Postal Service is not expected to receive the maximum revenues available because it fails to meet such “Pay for Performance” targets. Request at 2. See WP-Canada Bilateral-Comp-IB-06, WP-Canada Bilateral-Comp-IB-07, WP-Canada Bilateral-Comp-IB-08, and WP-Canada Bilateral-Comp-IB-09. This occurs because of an increase in the targets for delivery, and the absence of any improvement in the Postal Service's delivery service and scan performance during the contract. The Commission encourages the Postal Service to improve its performance in order to generate additional revenue and improve cost coverage.

Based on the data submitted and the comments received, the Commission finds that the Bilateral Agreement should cover its attributable costs (39 U.S.C. 3633(a)(2)), should not lead to the subsidization of competitive products by market dominant products (39 U.S.C. 3633(a)(1)), and should have a positive effect on competitive products' contribution to institutional costs (39 U.S.C. 3633(a)(3)). Thus, an initial review of the proposed Bilateral Agreement indicates that it comports with the provisions applicable to rates for competitive products.

Other considerations. The Postal Service shall, no later than 30 days after the effective date of the new contract, provide cost, revenue, and volume data associated with the current contract.

The Postal Service submitted the Bilateral Agreement which has not been executed by the parties. The Postal Service is directed to file the executed Bilateral Agreement with the Commission within 30 days of execution.

The Postal Service shall promptly notify the Commission if the Bilateral Agreement terminates earlier than its proposed term, but no later than the actual termination date. The Commission will then remove the Bilateral Agreement from the Mail Classification Schedule at the earliest possible opportunity.

In conclusion, the Commission approves the Canada Post-United States Postal Service Contractual Bilateral Agreement for Inbound Competitive Services as a new product. The existing contract will be removed from the Competitive Product List. The revision to the Competitive Product List is shown below the signature of this order and will be effective January 1, 2010.

V. Ordering Paragraphs

It is ordered:

1. Canada Post-United States Postal Service Contractual Bilateral Agreement for Inbound Competitive Services (MC2010-14 and CP2010-13-Inbound Surface Parcel Post at Non-UPU Rates and Xpresspost USA) is added to the Competitive Product List as a new product under International.

2. The Postal Service shall file cost, revenue, and volume data under the existing contract no later than 30 days after the effective date of the new contract.

3. The Postal Service shall file an executed copy of the Bilateral Agreement within 30 days of its execution.

4. The Postal Service shall notify the Commission if the Bilateral Agreement terminates earlier than its proposed term by no later than the actual termination date.

5. The Secretary shall arrange for the publication of this order in the Federal Register.

List of Subjects in 39 CFR Part 3020

Administrative practice and procedure; Postal Service.

By the Commission.
Shoshana M. Grove,
Secretary.

For the reasons discussed in the preamble, the Postal Regulatory Commission amends chapter III of title 39 of the Code of Federal Regulations as follows:

PART 3020—PRODUCT LISTS

1. The authority citation for part 3020 continues to read as follows:

Authority: Authority: 39 U.S.C. 503; 3622; 3631; 3642; 3682.

2. Revise Appendix A to Subpart A of Part 3020-Mail Classification Schedule to read as follows:

Appendix A to Subpart A of Part 3020—Mail Classification Schedule

Part A—Market Dominant Products
1000 Market Dominant Product List
First-Class Mail
Single-Piece Letters/Postcards
Bulk Letters/Postcards
Flats
Parcels
Outbound Single-Piece First-Class Mail International
Inbound Single-Piece First-Class Mail International
Standard Mail (Regular and Nonprofit)
High Density and Saturation Letters
High Density and Saturation Flats/Parcels
Carrier Route
Letters
Flats
Not Flat-Machinables (NFMs)/Parcels
Periodicals
Within County Periodicals
Outside County Periodicals
Package Services
Single-Piece Parcel Post
Inbound Surface Parcel Post (at UPU rates)
Bound Printed Matter Flats
Bound Printed Matter Parcels
Media Mail/Library Mail
Special Services
Ancillary Services
International Ancillary Services
Address List Services
Caller Service
Change-of-Address Credit Card Authentication
Confirm
International Reply Coupon Service
International Business Reply Mail Service
Money Orders
Post Office Box Service
Negotiated Service Agreements
HSBC North America Holdings Inc. Negotiated Service Agreement
Bookspan Negotiated Service Agreement
Bank of America Corporation Negotiated Service Agreement
The Bradford Group Negotiated Service Agreement
Inbound International
Canada Post—United States Postal Service Contractual Bilateral Agreement for Inbound Market Dominant Services (MC2010-12 and R2010-2)
Market Dominant Product Descriptions
First-Class Mail
[Reserved for Class Description]
Single-Piece Letters/Postcards
[Reserved for Product Description]
Bulk Letters/Postcards
[Reserved for Product Description]
Flats
[Reserved for Product Description]
Parcels
[Reserved for Product Description]
Outbound Single-Piece First-Class Mail International
[Reserved for Product Description]
Inbound Single-Piece First-Class Mail International
[Reserved for Product Description]
Standard Mail (Regular and Nonprofit)
[Reserved for Class Description]
High Density and Saturation Letters
[Reserved for Product Description]
High Density and Saturation Flats/Parcels
[Reserved for Product Description]
Carrier Route
[Reserved for Product Description]
Letters
[Reserved for Product Description]
Flats
[Reserved for Product Description]
Not Flat-Machinables (NFMs)/Parcels
[Reserved for Product Description]
Periodicals
[Reserved for Class Description]
Within County Periodicals
[Reserved for Product Description]
Outside County Periodicals
[Reserved for Product Description]
Package Services
[Reserved for Class Description]
Single-Piece Parcel Post
[Reserved for Product Description]
Inbound Surface Parcel Post (at UPU rates)
[Reserved for Product Description]
Bound Printed Matter Flats
[Reserved for Product Description]
Bound Printed Matter Parcels
[Reserved for Product Description]
Media Mail/Library Mail
[Reserved for Product Description]
Special Services
[Reserved for Class Description]
Ancillary Services
[Reserved for Product Description]
Address Correction Service
[Reserved for Product Description]
Applications and Mailing Permits
[Reserved for Product Description]
Business Reply Mail
[Reserved for Product Description]
Bulk Parcel Return Service
[Reserved for Product Description]
Certified Mail
[Reserved for Product Description]
Certificate of Mailing
[Reserved for Product Description]
Collect on Delivery
[Reserved for Product Description]
Delivery Confirmation
[Reserved for Product Description]
Insurance
[Reserved for Product Description]
Merchandise Return Service
[Reserved for Product Description]
Parcel Airlift (PAL)
[Reserved for Product Description]
Registered Mail
[Reserved for Product Description]
Return Receipt
[Reserved for Product Description]
Return Receipt for Merchandise
[Reserved for Product Description]
Restricted Delivery
[Reserved for Product Description]
Shipper-Paid Forward
[Reserved for Product Description]
Signature Confirmation
[Reserved for Product Description]
Special Handling
[Reserved for Product Description]
Stamped Envelopes
[Reserved for Product Description]
Stamped Cards
[Reserved for Product Description]
Premium Stamped Stationery
[Reserved for Product Description]
Premium Stamped Cards
[Reserved for Product Description]
International Ancillary Services
[Reserved for Product Description]
International Certificate of Mailing
[Reserved for Product Description]
International Registered Mail
[Reserved for Product Description]
International Return Receipt
[Reserved for Product Description]
International Restricted Delivery
[Reserved for Product Description]
Address List Services
[Reserved for Product Description]
Caller Service
[Reserved for Product Description]
Change-of-Address Credit Card Authentication
[Reserved for Product Description]
Confirm
[Reserved for Product Description]
International Reply Coupon Service
[Reserved for Product Description]
International Business Reply Mail Service
[Reserved for Product Description]
Money Orders
[Reserved for Product Description]
Post Office Box Service
[Reserved for Product Description]
Negotiated Service Agreements
[Reserved for Class Description]
HSBC North America Holdings Inc. Negotiated Service Agreement
[Reserved for Product Description]
Bookspan Negotiated Service Agreement
[Reserved for Product Description]
Bank of America Corporation Negotiated Service Agreement
The Bradford Group Negotiated Service Agreement
Part B—Competitive Products
2000 Competitive Product List
Express Mail
Express Mail
Outbound International Expedited Services
Inbound International Expedited Services
Inbound International Expedited Services 1 (CP2008-7)
Inbound International Expedited Services 2 (MC2009-10 and CP2009-12)
Inbound International Expedited Services 3 (MC2010-13 and CP2010-12)
Priority Mail
Priority Mail
Outbound Priority Mail International
Inbound Air Parcel Post (at non-UPU rates)
Royal Mail Group Inbound Air Parcel Post Agreement
Inbound Air Parcel Post (at UPU rates)
Parcel Select
Parcel Return Service
International
International Priority Airlift (IPA)
International Surface Airlift (ISAL)
International Direct Sacks—M—Bags
Global Customized Shipping Services
Inbound Surface Parcel Post (at non-UPU rates)
Canada Post—United States Postal Service Contractual Bilateral Agreement for Inbound Competitive Services (MC2010-14 and CP2010-13—Inbound Surface Parcel post at Non-UPU Rates and Xpresspost-USA)
International Money Transfer Service
International Ancillary Services
Special Services
Premium Forwarding Service
Negotiated Service Agreements
Domestic
Express Mail Contract 1 (MC2008-5)
Express Mail Contract 2 (MC2009-3 and CP2009-4)
Express Mail Contract 3 (MC2009-15 and CP2009-21)
Express Mail Contract 4 (MC2009-34 and CP2009-45)
Express Mail Contract 5 (MC2010-5 and CP2010-5)
Express Mail Contract 6 (MC2010--6 and CP2010-6)
Express Mail Contract 7 (MC2010--7 and CP2010-7)
Express Mail & Priority Mail Contract 1 (MC2009-6 and CP2009-7)
Express Mail & Priority Mail Contract 2 (MC2009-12 and CP2009-14)
Express Mail & Priority Mail Contract 3 (MC2009-13 and CP2009-17)
Express Mail & Priority Mail Contract 4 (MC2009-17 and CP2009-24)
Express Mail & Priority Mail Contract 5 (MC2009-18 and CP2009-25)
Express Mail & Priority Mail Contract 6 (MC2009-31 and CP2009-42)
Express Mail & Priority Mail Contract 7 (MC2009-32 and CP2009-43)
Express Mail & Priority Mail Contract 8 (MC2009-33 and CP2009-44)
Parcel Select & Parcel Return Service Contract 1 (MC2009-11 and CP2009-13)
Parcel Select & Parcel Return Service Contract 2 (MC2009-40 and CP2009-61)
Parcel Return Service Contract 1 (MC2009-1 and CP2009-2)
Priority Mail Contract 1 (MC2008-8 and CP2008-26)
Priority Mail Contract 2 (MC2009-2 and CP2009-3)
Priority Mail Contract 3 (MC2009-4 and CP2009-5)
Priority Mail Contract 4 (MC2009-5 and CP2009-6)
Priority Mail Contract 5 (MC2009-21 and CP2009-26)
Priority Mail Contract 6 (MC2009-25 and CP2009-30)
Priority Mail Contract 7 (MC2009-25 and CP2009-31)
Priority Mail Contract 8 (MC2009-25 and CP2009-32)
Priority Mail Contract 9 (MC2009-25 and CP2009-33)
Priority Mail Contract 10 (MC2009-25 and CP2009-34)
Priority Mail Contract 11 (MC2009-27 and CP2009-37)
Priority Mail Contract 12 (MC2009-28 and CP2009-38)
Priority Mail Contract 13 (MC2009-29 and CP2009-39)
Priority Mail Contract 14 (MC2009-30 and CP2009-40)
Priority Mail Contract 15 (MC2009-35 and CP2009-54)
Priority Mail Contract 16 (MC2009-36 and CP2009-55)
Priority Mail Contract 17 (MC2009-37 and CP2009-56)
Priority Mail Contract 18 (MC2009-42 and CP2009-63)
Priority Mail Contract 19 (MC2010-1 and CP2010-1)
Priority Mail Contract 20 (MC2010-2 and CP2010-2)
Priority Mail Contract 21 (MC2010-3 and CP2010-3)
Priority Mail Contract 22 (MC2010-4 and CP2010-4)
Priority Mail Contract 23 (MC2010-9 and CP2010-9)
Outbound International
Direct Entry Parcels Contracts
Direct Entry Parcels 1 (MC2009-26 and CP2009-36)
Global Direct Contracts (MC2009-9, CP2009-10, and CP2009-11)
Global Expedited Package Services (GEPS) Contracts
GEPS 1 (CP2008-5, CP2008-11, CP2008-12, CP2008-13, CP2008-18, CP2008-19, CP2008-20, CP2008-21, CP2008-22, CP2008-23, and CP2008-24)
Global Expedited Package Services 2 (CP2009-50)
Global Plus Contracts
Global Plus 1 (CP2008-8, CP2008-46 and CP2009-47)
Global Plus 2 (MC2008-7, CP2008-48 and CP2008-49)
Inbound International
Inbound Direct Entry Contracts with Foreign Postal Administrations
Inbound Direct Entry Contracts with Foreign Postal Administrations (MC2008-6, CP2008-14 and MC2008-15)
Inbound Direct Entry Contracts with Foreign Postal Administrations 1 (MC2008-6 and CP2009-62)
International Business Reply Service Competitive Contract 1 (MC2009-14 and CP2009-20)
Competitive Product Descriptions
Express Mail
[Reserved for Group Description]
Express Mail
[Reserved for Product Description]
Outbound International Expedited Services
[Reserved for Product Description]
Inbound International Expedited Services
[Reserved for Product Description]
Priority
[Reserved for Product Description]
Priority Mail
[Reserved for Product Description]
Outbound Priority Mail International
[Reserved for Product Description]
Inbound Air Parcel Post
[Reserved for Product Description]
Parcel Select
[Reserved for Group Description]
Parcel Return Service
[Reserved for Group Description]
International
[Reserved for Group Description]
International Priority Airlift (IPA)
[Reserved for Product Description]
International Surface Airlift (ISAL)
[Reserved for Prduct Description]
International Direct Sacks—M-Bags
[Reserved for Product Description]
Global Customized Shipping Services
[Reserved for Product Description]
International Money Transfer Service
[Reserved for Product Description]
Inbound Surface Parcel Post (at non-UPU rates)
[Reserved for Product Description]
International Ancillary Services
[Reserved for Product Description]
International Certificate of Mailing
[Reserved for Product Description]
International Registered Mail
[Reserved for Product Description]
International Return Receipt
[Reserved for Product Description]
International Restricted Delivery
[Reserved for Product Description]
International Insurance
[Reserved for Product Description]
Negotiated Service Agreements
[Reserved for Group Description]
Domestic
[Reserved for Product Description]
Outbound International
[Reserved for Group Description]
Part C—Glossary of Terms and Conditions [Reserved]
Part D—Country Price Lists for International Mail [Reserved]

[FR Doc. 2010-2629 Filed 2-5-10; 8:45 am]

BILLING CODE 7710-FW-S